DEPARTMENT OF HEALTH AND HUMAN SERVICES

National Institutes of Health

National Cancer Institute; Cancellation of Meeting

Notice is hereby given of the cancellation of the National Cancer Institute Council of Research Advocates, May 11, 2020, 9:30 a.m. to May 11, 2020, 4:00 p.m., National Institutes of Health, Building 40, 40 Convent Drive, Bethesda, MD 20892 which was published in the Federal Register on March 3, 2020, 85 FR 12569.

This notice is being amended to announce that the meeting is cancelled due to scheduling difficulties and will not be rescheduled.

Dated: April 6, 2020.
Melanie J. Pantoja,
Program Analyst, Office of Federal Advisory Committee Policy.

[FR Doc. 2020-07552 Filed 4-9-20; 8:45 am]

BILLING CODE 4140-01-P